DEPARTMENT OF THE INTERIOR

Bureau of Land Management

[CACA48668, 49501, 49502, 49503, LLCAD09000. L51010000. ER0000, LVRWB09B2400]

Notice of Availability of the Supplemental Draft Environmental Impact Statement for the Proposed Ivanpah Solar Electric Generation System Project, San Bernardino County, CA

AGENCY: Bureau of Land Management, Interior.

ACTION: Notice of availability.

SUMMARY: In accordance with the National Environmental Policy Act of 1969, as amended, the Bureau of Land Management (BLM) has prepared a Supplemental Draft Environmental Impact Statement (EIS) for the Proposed Ivanpah Solar Electric Generation System (ISEGS) Project and by this notice is announcing the opening of the comment period.

DATES: To ensure that comments will be considered, the BLM must receive written comments on the Supplemental Draft EIS within 45 days following the date the Environmental Protection Agency publishes its Notice of Availability of this Supplemental Draft EIS in the Federal Register. The BLM will announce future meetings or hearings and any other public involvement activities at least 15 days in advance through public notices, media releases, and/or mailings.

ADDRESSES: You may submit comments on issues related to the ISEGS Supplemental Draft EIS by any of the following methods:

• E-mail: ca690@ca.blm.gov Attn: ISEGS.

• Fax: (760) 326-7099 Attn: George Meckfessel, or

• Mail: George Meckfessel, Planning and Environmental Coordinator, Bureau of Land Management, Needles Field Office, 1303 South Highway 95, Needles, California 92363.

Documents pertinent to this proposal may be examined at the Needles Field Office at the above address.

FOR FURTHER INFORMATION CONTACT: For further information and/or to have your name added to our mailing list, contact Tom Hurshman, Project Manager, telephone: (970) 240-5345; address: Bureau of Land Management, 2465 South Townsend Avenue, Montrose, Colorado 81401; e-mail: ca690@ca.blm.gov Attn: Ivanpah SEGS.

SUPPLEMENTARY INFORMATION: Bright Source Energy has applied for a right-of-way grant on public land to develop a 400-megawatt solar thermal power plant on approximately 4,073 acres of public land 4.5 miles south of Primm, Nevada in San Bernardino County, California. The BLM published a Notice of Availability of the Draft Ivanpah Solar Electric Generation System EIS and the Draft California Desert Conservation Area Plan Amendment in the Federal Register on November 10, 2009 (74 FR 58043). The Draft EIS was available for a 90-day public comment period which closed on February 11, 2010. This Supplemental Draft EIS analyzes two additional alternatives: (1) Reducing the footprint of the ISEGS in order to reduce impacts to sensitive plant and animal species; and (2) relocating a portion of the ISEGS closer to the Interstate 15 corridor. The Supplemental Draft EIS also clarifies the BLM's purpose and need for the project. The Supplemental Draft EIS does not address comments received on the Draft EIS other than those relevant to the above listed elements of the Supplemental Draft EIS. Comments on the Draft EIS that refer to issues other than the two alternatives listed above will be addressed in the ISEGS Final EIS. The Supplemental Draft EIS does not propose any changes to the proposed plan amendment to the California Desert Conservation Area Plan as outlined in the ISEGS Draft EIS.

Before including your address, phone number, e-mail address, or other personal identifying information in your comment, you should be aware that your entire comment —including your personal identifying information—may be made publicly available at any time. While you can ask us in your comment to withhold your personal identifying information from public review, we cannot guarantee that we will be able to do so.

Authority: 40 CFR 1506.6 and1506.10 and 43 CFR 1610.2.

Thomas Pogacnik,
Deputy State Director.

[FR Doc. 2010-8780 Filed 4-15-10; 8:45 am]

BILLING CODE 4310-40-P